DEPARTMENT OF HOUSING AND URBAN DEVELOPMENT

[Docket No. FR-5589-N-01]

The Performance Review Board

AGENCY: Office of the Deputy Secretary, HUD.

ACTION: Notice of Appointments.

SUMMARY: The Department of Housing and Urban Development announces the appointments of, Estelle B. Richman, Karen Newton Cole, Peter J. Grace, Jemine A. Bryon, Clifford D. Taffett, Bryan Greene, Kevin M. Simpson, Lori Michalski, Donald J. LaVoy, Patricia A. Hoban-Moore, and Kevin R. Cooke, as members of the Departmental Performance Review Board. The address is: Department of Housing and Urban Development, Washington, DC 20410-0050.

FOR FURTHER INFORMATION CONTACT: Persons desiring any further information about the Performance Review Board and its members may contact Gwendolyn Fleming, Deputy Director, Office of Executive Resources, Department of Housing and Urban Development, Washington, DC 20410. Telephone (202) 708-1381. (This is not a toll-free number)

Dated: November 18, 2011.
Estelle B. Richman,
Acting Deputy Secretary.

[FR Doc. 2011-30620 Filed 11-28-11; 8:45 am]

BILLING CODE 4210-67-P